NATIONAL SCIENCE FOUNDATION

Request for Public Comment: National Plan for Arctic Research

AGENCY: National Science Foundation.

ACTION: Request for public comment; extension of comment period.

SUMMARY: On July 21, 2025, the National Science Foundation (NSF) published in the Federal Register a document entitled “Request for Public Comment: National Plan for Arctic Research.” In response to requests by prospective commenters that they would benefit from additional time to adequately consider and respond to the RFI, NSF has determined that an extension of the comment period until Saturday, November 15, 2025, at 11:59 p.m. (eastern), is appropriate.

DATES: The end of the comment period for the document entitled “Request for Information” published on July 21, 2025 (90 FR 34302), is extended from October 15, 2025, until November 15, 2025.

ADDRESSES: Interested individuals and organizations should submit comments electronically via email to IARPCPlan@nsf.gov. Send written submissions to Roberto Delgado, Office of Polar Programs, National Science Foundation, 2415 Eisenhower Avenue, Alexandria, VA 22314. Alternatively, you may submit your comments, identified by Docket ID No. NSF-2025-OGC-0002, at https://www.regulations.gov. For comments submitted at Regulations.gov, follow the online instructions for submitting comments. Once submitted, comments cannot be edited or removed from Regulations.gov.

Instructions: Response to this RFI is voluntary. Please note that all submissions received in response to this notice may be publicly posted or otherwise released in their entirety. Do not include in your submissions any copyrighted material; information of a confidential nature, such as personal or proprietary information; or any information you would not like to be made publicly available. NSF will not respond to individual submissions. A response to this RFI will not be viewed as a binding commitment to develop or pursue the project or ideas discussed. This RFI is not accepting applications for financial assistance or financial incentives. Responses containing references, studies, research, and other empirical data that are not widely published should include copies of or electronic links to the referenced materials. Responses from minors, or responses containing profanity, vulgarity, threats, or other inappropriate language or content will not be considered. Comments submitted in response to this notice are subject to the Freedom of Information Act (FOIA). Please note that the United States Government will not pay for response preparation, or for the use of any information contained in a response.

FOR FURTHER INFORMATION CONTACT: Please contact the IARPC Executive Secretary, Dr. Lesley Anderson, at 571-565-6963, or by email at leanders@associates.nsf.gov.

SUPPLEMENTARY INFORMATION: The Arctic Research and Policy Act of 1984 (ARPA), 15 U.S.C. Chapter 67, provides for a comprehensive national policy to identify and address national research needs and objectives in the Arctic. The ARPA established an Arctic Research Commission (USARC), designated the National Science Foundation as the lead agency responsible for implementing Arctic research policy, and established an Interagency Arctic Research Policy Committee (IARPC). The ARPA legislation charges the IARPC, in cooperation with the USARC, to develop and establish an integrated national Arctic research policy that will guide Federal agencies in implementing their research programs in the Arctic.

About the Arctic Research Plan

IARPC is required by law to prepare and execute a 5-year Arctic Research Plan, which helps to coordinate the overall Federal effort in Arctic research. To date, three five-year Arctic Research Plans have been released and implemented, the most recent covering 2022-2026, and the current Implementation Plan for 2025-2026 is available at https://www.iarpccollaborations.org/uploads/cms/documents/2025-2026_implementation_plan_high_res.pdf. As required by the ARPA legislation, IARPC works in partnership with USARC, as well as with representatives from Arctic communities, federally recognized Tribal groups, the State of Alaska, the private sector, non-governmental organizations, research institutions, and the academic community. Accordingly, the current Plan is being implemented by nine collaboration teams and eleven communities of practice which are co-led by Federal agency staff and non-Federal individuals with subject matter expertise.

These Arctic Research Plans reflect the goals and missions of the Federal agencies supporting research in the Arctic and focus on research which will be enhanced through collaboration among Federal agencies, as opposed to agencies working alone. The updated Arctic Research Plan will guide Federal coordination of Arctic research for the period 2027-2031, positioning the United States to remain a global leader in Arctic research and stewardship for many years to come.

Seeking Public Input

As called for in the ARPA, IARPC seeks input from any interested individuals and organizations to ensure that the research interests and needs of all are addressed appropriately in the updated Plan. IARPC is committed to an open engagement process throughout the development of the Plan.

In particular, IARPC is interested in feedback in response to the following questions regarding what updates should be made to the Arctic Research Plan 2027-2031:

1. What are the critical issues and needs where federally funded science, engineering, and technology research should provide knowledge to promote sound decision-making at all levels related to the Arctic?

2. What are examples of research questions that address these issues?

Background

For context, the current Plan “Arctic Research Plan 2022-2026” has four policy drivers, four priority areas, and five foundational activities.

The policy drivers for the Arctic Research Plan FY2022-2026 are:

• Enhance the well-being of Arctic residents;

• Advance stewardship of the Arctic environment;

• Strengthen national and regional security; and

• Improve understanding of the Arctic as a component of planet Earth

The priority areas for the Arctic Research Plan FY2022-2026 are:

• Community Resilience and Health

• Sustainable Economies and Livelihoods

• Risk Management and Hazard Mitigation

• Arctic System Interactions

The foundational activities for the current Arctic Research Plan, which are meant to undergird the priority areas, are:

• Data management

• Education and Training

• Monitoring, Observation, Modeling and Prediction

• Technology Innovation and Application

• Tribal Consultation and Effective Processes

For the full Arctic Research Plan 2022-2026, see: https://www.iarpccollaborations.org/uploads/cms/documents/final-arp-2022-2026-20211214.pdf.

For the full Arctic Research Plan 2017-2021, see: https://www.iarpccollaborations.org/download.axd?file=iarpc_arctic_research_plan_2017-2021.pdf.

For the full Arctic Research Plan 2013-2017, see: https://www.iarpccollaborations.org/uploads/cms/documents/arctic_research_2013.pdf.

(Authority: 42 U.S.C. 1861.)

Dated: August 5, 2025.
Suzanne H. Plimpton,
Reports Clearance Officer, National Science Foundation.

[FR Doc. 2025-15045 Filed 8-7-25; 8:45 am]

BILLING CODE 7555-01-P